OFFICE OF THE UNITED STATES TRADE REPRESENTATIVE

Fiscal Year 2023 Tariff-Rate Quota Allocations for Raw Cane Sugar and Sugar-Containing Products

AGENCY: Office of the United States Trade Representative.

ACTION: Notice.

SUMMARY: The Office of the United States Trade Representative (USTR) is providing notice of country-by-country allocations of the Fiscal Year (FY) 2023 (October 1, 2022 through September 30, 2023) in-quota quantities of the tariff-rate quotas (TRQs) for imported raw cane sugar and sugar-containing products.

DATES: The changes made by this notice are applicable as of July 21, 2022.

FOR FURTHER INFORMATION CONTACT: Erin Nicholson, Office of Agricultural Affairs, at 202-395-9419, or Erin.H.Nicholson@ustr.eop.gov.

SUPPLEMENTARY INFORMATION: Pursuant to Additional U.S. Note 5 to Chapter 17 of the Harmonized Tariff Schedule of the United States (HTSUS), the United States maintains TRQs for imports of raw cane sugar and refined sugar. Pursuant to Additional U.S. Note 8 to Chapter 17 of the HTSUS, the United States maintains a TRQ for imports of sugar-containing products.

Section 404(d)(3) of the Uruguay Round Agreements Act (19 U.S.C. 3601(d)(3)) authorizes the President to allocate the in-quota quantity of a TRQ for any agricultural product among supplying countries or customs areas. The President delegated this authority to the U.S. Trade Representative under Presidential Proclamations 6763 (60 FR 1007) and 7235 (64 FR 55611).

On July 11, 2022, the Foreign Agricultural Service (FAS) of the U.S. Department of Agriculture announced sugar program provisions for FY 2023. FAS announced an in-quota quantity of the TRQ for raw cane sugar for FY 2023 of 1,117,195 metric tons raw value (MTRV) (conversion factor: 1 metric ton raw value = 1.10231125 short tons raw value), which is the minimum amount to which the United States is committed under the World Trade Organization (WTO) Agreement. The U.S. Trade Representative is allocating this quantity (1,117,195 MTRV) to the following countries in the amounts specified below:

Country | FY 2023 TRQ allocations (metric tons raw value)
Argentina | 46,260
Australia | 89,293
Barbados | 7,531
Belize | 11,834
Bolivia | 8,606
Brazil | 155,993
Colombia | 25,819
Congo (Brazzaville) | 7,258
Costa Rica | 16,137
Cote d'Ivoire | 7,258
Dominican Republic | 189,343
Ecuador | 11,834
El Salvador | 27,971
Eswatini (Swaziland) | 17,213
Fiji | 9,682
Gabon | 7,258
Guatemala | 51,639
Guyana | 12,910
Haiti | 7,258
Honduras | 10,758
India | 8,606
Jamaica | 11,834
Madagascar | 7,258
Malawi | 10,758
Mauritius | 12,910
Mexico | 7,258
Mozambique | 13,986
Panama | 31,199
Papua New Guinea | 7,258
Paraguay | 7,258
Peru | 44,108
Philippines | 145,235
South Africa | 24,744
St. Kitts & Nevis | 7,258
Taiwan | 12,910
Thailand | 15,061
Trinidad & Tobago | 7,531
Uruguay | 7,258
Zimbabwe | 12,910

The allocations of the in-quota quantities of the raw cane sugar TRQ to countries that are net importers of sugar are conditioned on receipt of the appropriate verifications of origin. Certificates of quota eligibility must accompany imports from any country for which an allocation has been provided.

With respect to the in-quota quantity of 64,709 metric tons (MT) of the TRQ for imports of certain sugar-containing products maintained under Additional U.S. Note 8 to Chapter 17 of the HTSUS, the U.S. Trade Representative is allocating 59,250 MT to Canada. The remainder of the in-quota quantity, 5,459 MT, is available for other countries on a first-come, first-served basis.

Raw cane sugar and sugar-containing products for FY 2023 TRQs may enter the United States as of October 1, 2022.

Greta Peisch,
General Counsel, Office of the United States Trade Representative.

[FR Doc. 2022-15538 Filed 7-20-22; 8:45 am]

BILLING CODE 3290-F2-P